DEPARTMENT OF HEALTH AND HUMAN SERVICES

Centers for Disease Control and Prevention

[30DAY-14-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

Geo-Analysis of HIV Prevention Services Provided by CDC to Directly and Indirectly Funded Community-Based Organizations (CBOs). NEW—The Centers for Disease Control and Prevention (CDC), National Center for HIV, STD, and TB Prevention (NCHSTP), Division of HIV/AIDS Prevention (DHAP) proposes an evaluation project which will build on the knowledge gained from the previous studies to provide a multi-level, geo-referenced review of CDC-funded, community-based organization (CBO)-provided HIV prevention services. The purposes of this project are: (1) To contribute to the construction of a national database of HIV prevention activities by developing a geo-coded database that identifies, locates and maps all CBOs directly and indirectly funded by CDC in the US and its territories, and (2) to evaluate the comprehensiveness of HIV prevention services in geographic areas across the United States of America and territories through the use of Geographic Information Systems (GIS) technology as the primary analytical tool.

This project is being tasked under the Enhanced Program Assessments with Laboratory Capability Task Order Contract (200-96-0511) because of its program evaluation component. By using GIS to identify gaps in service provision within a given geographic area, program changes can be recommended to those health departments and CBOs participating in the project. These recommended changes may include adjusting services provided or target populations in an effort to close identified gaps.

Collaboration between government agencies and CBOs with access to a particular group at risk has been a traditional approach in public health in the United States. CDC promotes the collaboration and coordination of HIV prevention efforts between CBOs and of CBOs with State health departments, affiliates of National and Regional Minority Organizations(NRMOs), HIV prevention service agencies, and other public agencies including substance abuse programs, educational institutions and the criminal justice system. CDC promotes collaboration as a strategy for (1) improving access to and for at risk populations and communities, (2) improving the direct delivery of services, (3) improving referral of clients to services, and (4) creating comprehensive HIV services in designated geographical jurisdictions.

The use of GIS will enhance the accomplishment of these three goals by providing information to funders and other shareholders to enhance CBOs in their efforts to provide interventions and client referrals and services that are accessible to the populations in need of them. This data will assist the CDC to determine the effectiveness of federal funding, whether the funding is affecting the designated high risk or infected groups such as disproportionately affected minorities where they live, or whether or not there are available programs to link with for more comprehensive services.

The project will use appropriate technology to minimize respondent burden. A self-report mailed questionnaire, three pages in length, will be mailed. Attached, will be two maps of the geographical area (city and surrounding metropolitan area) where each CBO is located. The use of maps eliminates the need to locate maps to respond to questions concerning location and distance. This project will not be requesting information of a sensitive nature. The project deals with the types of interventions offered to high risk or HIV positive individuals, location and access.

The CDC anticipates one person per CBO (total # of approximately 2000) to complete the data collection form once during the 2000 for approximately 30 minutes. Therefore, the total response burden is estimated at 1000 hours.

Respondents | Number of respondents | Number of responses | Average hour burden per response
Directly Funded CBOs | 184 | 1 | 30/60
Indirectly Funded CBOs | 1816 | 1 | 30/60

Dated: January 2, 2001.
Nancy E. Cheal,
Acting Associate Director for Policy, Planning and Evaluation, Centers for Disease Control and Prevention (CDC).

[FR Doc. 01-475 Filed 1-8-01; 8:45 am]

BILLING CODE 4163-18-P